DEPARTMENT OF VETERANS AFFAIRS

Privacy Act of 1974; System of Records

AGENCY: Office of Mental Health (OMH), Department of Veterans Affairs (VA).

ACTION: Notice of a new system of records.

SUMMARY: Pursuant to the Privacy Act of 1974, notice is hereby given that VA is establishing a new system of records titled, “Law Enforcement Officer Evaluations (LEO Evals)—VA” (216VA10). This system will be used to assist with the occupational placements of VA police officer candidates and officers undergoing psychological evaluations for hire and annually thereafter. Psychological evaluations, testing, and notes will contain data to assess the applicant's or employee's psychological fitness to meet the functional requirements of a VA police officer position.

DATES: Comments on this new system of records must be received no later than August 23, 2024. If no public comment is received during the period allowed for comment or unless otherwise published in the Federal Register by VA, the new system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Law Enforcement Officer Evaluations (LEO Evals)—VA (216VA10)”. Comments received will be available at www.Regulations.gov for public viewing, inspection or copies.

FOR FURTHER INFORMATION CONTACT: Stephania Griffin, Veterans Health Administration (VHA) Chief Privacy Officer, Department of Veterans Affairs, 810 Vermont Avenue NW, (105HIG), Washington, DC 20420, stephania.griffin@va.gov, telephone number 704-245-2492 (Note: This is not a toll-free number).

SUPPLEMENTARY INFORMATION:

I. Description of Proposed Systems of Records

This system of records is used to assist with occupational placements VA police officer candidates and officers undergoing psychological evaluations for hire and annually thereafter. Psychological evaluations, testing, and notes will contain data to assess the applicant's or employee's psychological fitness to meet the functional requirements of a VA police officer position. VA Handbook 0730, Security and Law Enforcement, appendix A, dated August 11, 2000, describes the medical standards for VA police officer applicants and incumbents. VA Handbook 0730 states that the VA police officers must possess emotional and mental stability. These guidelines are consistent with VA Handbook 0720, Procedures to Arm Department of Veterans Affairs Police, dated January 24, 2000. These standards are based on 5 CFR 339.301.

II. Proposed Routine Use Disclosures of Data in the System

VA is proposing the following routine use disclosures of information maintained in the system.

1. To a Member of Congress or staff acting upon the Member's behalf when the Member or staff requests the information on behalf of, and at the request of, the individual who is the subject of the record.

2. Data Breach Response and Remediation, for VA: To appropriate agencies, entities, and persons when (a) VA suspects or has confirmed that there has been a breach of the system of records; (b) VA has determined that as a result of the suspected or confirmed breach there is a risk of harm to individuals, VA (including its information systems, programs, and operations), the Federal Government, or national security; and (c) the disclosure made to such agencies, entities, and persons is reasonably necessary to assist in connection with VA's efforts to respond to the suspected or confirmed breach or to prevent, minimize, or remedy such harm.

3. Data Breach Response and Remediation, for Another Federal Agency: To another Federal agency or Federal entity, when VA determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

4. Law Enforcement: To a Federal, State, local, territorial, Tribal, or foreign law enforcement authority or other appropriate entity charged with the responsibility of investigating or prosecuting a violation or potential violation of law, whether civil, criminal, or regulatory in nature, or charged with enforcing or implementing such law, provided that the disclosure is limited to information that, either alone or in conjunction with other information, indicates such a violation or potential violation of law civil. The disclosure of the names and addresses of Veterans and their dependents from VA records under this routine use must also comply with the provisions of 38 U.S.C. 5701.

5. Department of Justice (DoJ), Litigation, or Administrative Proceeding: To DoJ, or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components is a party to such proceedings or has an interest in such proceedings, and VA determines that use of such records is relevant and necessary to the proceedings.

6. Office of Management and Budget (OMB): To OMB for the performance of its statutory responsibilities for evaluating Federal programs.

7. OMB: To OMB at any stage in the legislative coordination and clearance process in connection with private relief legislation as set forth in OMB Circular No. A-19.

8. National Archives and Records Administration (NARA): To NARA in records management inspections conducted under 44 U.S.C. 2904 and 2906, or other functions authorized by laws and policies governing NARA operations and VA records management responsibilities.

9. Equal Employment Opportunity Commission (EEOC): To EEOC in connection with investigations of alleged or possible discriminatory practices, examination of Federal affirmative employment programs, or other functions of the Commission as authorized by law.

10. Federal Labor Relations Authority (FLRA): To FLRA in connection with the investigation and resolution of allegations of unfair labor practices, the resolution of exceptions to arbitration awards when a question of material fact is raised, matters before the Federal Service Impasses Panel, and the investigation of representation petitions and the conduct or supervision of representation elections.

11. Merit Systems Protection Board (MSPB): To MSPB in connection with appeals, special studies of the civil service and other merit systems, review of rules and regulations, investigation of alleged or possible prohibited personnel practices, and such other functions promulgated in 5 U.S.C. 1205 and 1206, or as authorized by law.

12. Health Care Providers, for Referral by VA: To: (a) a Federal agency or a health care provider when VA refers a patient for medical and other health services, or authorizes a patient to obtain such services and the information is needed by the Federal agency or health care provider to perform the services; or (b) a Federal agency or a health care provider under the provisions of 38 U.S.C. 513, 7409, 8111, or 8153, when treatment is rendered by VA under the terms of such contract or agreement or the issuance of an authorization, and the information is needed for purposes of medical treatment or follow-up, determination of eligibility for benefits, or recovery by VA of the costs of the treatment.

13. Health Care Providers, for Referral to VA: To a non-VA health care provider when that health care provider has referred the individual to VA for medical or other health services.

14. Covered Entities, for their Health Care Operations: To a covered entity for their health care operations, provided that the entity either has or had a relationship with the individual, and the disclosure is for the purpose of:

(a) Conducting quality assessment and improvement activities; patient safety activities as defined in 42 CFR 3.20; population-based activities relating to improving health or reducing health care costs, protocol development, case management, and care coordination; contacting of health care providers and patients with information about treatment alternatives; and related functions that do not include treatment;

(b) Reviewing the competence or qualifications of health care professionals; evaluating practitioner and provider performance, and health plan performance; conducting training programs for health care practitioners, trainees, and students; training of non-health care professionals; accreditation, certification, licensing, or credentialing activities; or

(c) Health care fraud and abuse detection or compliance.

15. Guardians, for Incompetent Veterans: To a legal guardian who is responsible for the care of the mentally incompetent individual, provided that information is about the incompetent individual and only disclosed to the extent necessary.

16. Agency-Appointed Representatives, Regarding Examinations: To the agency-appointed representative of an employee including all notices, determinations, decisions, or other written communications issued to the employee, in connection with an examination ordered by the agency under: (a) medical evaluation (formerly Fitness for Duty) examinations procedures, or (b) agency-filed disability retirement procedures.

17. Other Agencies, for Injury Reporting: To a requesting agency, organization, or individual including the home address and other information concerning those individuals who it is reasonably believed might have contracted an illness or been exposed to or suffered from a health hazard while employed in the Federal workforce.

18. Governmental Agencies, for VA Hiring, Security Clearance, Contract, License, Grant: To a Federal, State, local, or other governmental agency maintaining civil or criminal violation records, or other pertinent information, such as employment history, background investigations, or personal or educational background, to obtain information relevant to VA's hiring, transfer, or retention of an employee, issuance of a security clearance, letting of a contract, or issuance of a license, grant, or other benefit. The disclosure of the names and addresses of veterans and their dependents from VA records under this routine use must also comply with the provisions of 38 U.S.C. 5701.

19. Federal, State, Local Agencies, for Workplace Health and Safety Matters: To any Federal, State, or local government agency, in response to its request or at the initiation of the VA, information relevant and necessary to the lawful, statutory, administrative, or investigatory purpose as it relates to the conduct of job-related epidemiological research or the assurance of compliance with Federal, State, or local government laws on health and safety in the work environment.

20. State Licensing Board (SLB), for Licensing: To a Federal agency, a State or local government licensing board, the Federation of State Medical Boards, or a similar non-governmental entity that maintains records concerning individuals' employment histories or concerning the issuance, retention, or revocation of licenses, certifications, or registration necessary to practice an occupation, profession, or specialty, to inform such non-governmental entities about the health care practices of a terminated, resigned, or retired health care employee whose professional health care activity so significantly failed to conform to generally accepted standards of professional medical practice as to raise reasonable concern for the health and safety of patients in the private sector or from another Federal Agency. These records may also be disclosed as part of an ongoing computer matching program to accomplish these purposes.

21. Licensing Investigators or Supervisory Officials: To a State or local government entity which has the legal authority to make decisions concerning the issuance, retention or revocation of licenses, certifications or registrations required to practice a health care profession, when requested in writing by an investigator or supervisory official of the licensing entity for the purpose of making a decision concerning the issuance, retention or revocation of the license, certification or registration of a named health care professional.

22. National Practitioner Data Bank (NPDB), for Hiring, Privileging: To the NPDB at the time of hiring or clinical privileging/re-privileging of health care practitioners, and other times as deemed necessary by VA, in order for VA to obtain information relevant to a Department decision concerning the hiring, privileging/re-privileging, retention, or termination of the applicant or employee.

23. NPDB, SLB, for Medical Malpractice: To the NPDB or a SLB in the State in which a practitioner is licensed, in which the VA facility is located, or in which an act or omission occurred upon which a medical malpractice claim was based when VA reports information concerning: (a) any payment for the benefit of a physician, dentist, or other licensed health care practitioner that was made as the result of a settlement or judgment of a claim of medical malpractice, if an appropriate determination is made in accordance with Department policy that payment was related to substandard care, professional incompetence, or professional misconduct on the part of the individual; (b) a final decision that relates to possible incompetence or improper professional conduct that adversely affects the clinical privileges of a physician or dentist for a period longer than 30 days; or (c) the acceptance of the surrender of clinical privileges or any restriction of such privileges by a physician or dentist, either while under investigation by the health care entity relating to possible incompetence or improper professional conduct, or in return for not conducting such an investigation or proceeding. These records may also be disclosed as part of a computer matching program to accomplish these purposes.

24. Health and Wellness Program Evaluation: To third parties under contract with the agency to conduct evaluations of health and wellness programs.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on June 14, 2024 for publication.

Dated: July 19, 2024.
Amy L. Rose,
Government Information Specialist, VA Privacy Service, Office of Compliance, Risk and Remediation, Office of Information and Technology, Department of Veterans Affairs.

SYSTEM NAME AND NUMBER:

“Law Enforcement Officer Evaluations (LEO Evals—VA” (216VA10).

SECURITY CLASSIFICATION:

Unclassified.

SYSTEM LOCATION:

These records are the responsibility of the Office of Mental Health (OMH), Veterans Health Administration (VHA), Department of Veterans Affairs (VA). The OMH is located at 810 Vermont Avenue NW, (11MH), Washington, DC 20420. Records are maintained at VA health care facilities. Addresses are listed in VA Appendix 1 of the biennial publication of the VA Privacy Act Issuances.

SYSTEM MANAGER(S):

Christopher Loftis, Ph.D., National Mental Health Director, Office of Mental Health, 810 Vermont Avenue NW, Washington, DC 20420, Christopher.loftis2@va.gov, telephone number 202-461-0420 (Note: This is not a toll-free number).

AUTHORITY FOR MAINTENANCE OF THE SYSTEM:

VA Handbook 0730; VA Handbook 0720; 5 CFR 339.301.

PURPOSE(S) OF THE SYSTEM:

Records in this system will be used to assist with occupational placements of VA police officer candidates and officers undergoing psychological evaluations for hire and annually thereafter. Psychological evaluations, testing, and notes will contain data to assess the applicant's or employee's psychological fitness to meet the functional requirements of a VA police officer position.

CATEGORIES OF INDIVIDUALS COVERED BY THE SYSTEM:

The records in the system are on VA police officer employees and applicants.

CATEGORIES OF RECORDS IN THE SYSTEM:

Records include demographic information such as name, address, phone number, email address, and the last four of the applicant/employee social security number. Records will also contain information regarding the psychological suitability to meet the functional requirements of the VA police officer position requirements, to include test data, interview notes, screening measures, behavioral history, references, and background data.

RECORD SOURCE CATEGORIES:

Records in this system are provided by VA police officer employees and candidates, VA psychologists and psychiatrists conducting psychological evaluations, VA police chiefs and supervisors, and human resource and occupational health staff.

ROUTINE USES OF RECORDS MAINTAINED IN THE SYSTEM, INCLUDING CATEGORIES OF USERS AND PURPOSES OF SUCH USES:

To the extent that records contained in the system include information protected by The HIPAA Privacy Rule and 38 U.S.C. 7332 that information cannot be disclosed under a routine use unless there is also specific disclosure authority in both provisions.

1. To a Member of Congress or staff acting upon the Member's behalf when the Member or staff requests the information on behalf of, and at the request of, the individual who is the subject of the record.

2. Data Breach Response and Remediation, for VA: To appropriate agencies, entities, and persons when (a) VA suspects or has confirmed that there has been a breach of the system of records; (b) VA has determined that as a result of the suspected or confirmed breach there is a risk of harm to individuals, VA (including its information systems, programs, and operations), the Federal Government, or national security; and (c) the disclosure made to such agencies, entities, and persons is reasonably necessary to assist in connection with VA's efforts to respond to the suspected or confirmed breach or to prevent, minimize, or remedy such harm.

3. Data Breach Response and Remediation, for Another Federal Agency: To another Federal agency or Federal entity, when VA determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

4. Law Enforcement: To a Federal, State, local, territorial, Tribal, or foreign law enforcement authority or other appropriate entity charged with the responsibility of investigating or prosecuting a violation or potential violation of law, whether civil, criminal, or regulatory in nature, or charged with enforcing or implementing such law, provided that the disclosure is limited to information that, either alone or in conjunction with other information, indicates such a violation or potential violation of law civil. The disclosure of the names and addresses of Veterans and their dependents from VA records under this routine use must also comply with the provisions of 38 U.S.C. 5701.

5. Department of Justice (DoJ), Litigation, or Administrative Proceeding: To DoJ, or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components is a party to such proceedings or has an interest in such proceedings, and VA determines that use of such records is relevant and necessary to the proceedings.

6. Office of Management and Budget (OMB): To OMB for the performance of its statutory responsibilities for evaluating Federal programs.

7. OMB: To OMB at any stage in the legislative coordination and clearance process in connection with private relief legislation as set forth in OMB Circular No. A-19.

8. National Archives and Records Administration (NARA): To NARA in records management inspections conducted under 44 U.S.C. 2904 and 2906, or other functions authorized by laws and policies governing NARA operations and VA records management responsibilities.

9. Equal Employment Opportunity Commission (EEOC): To EEOC in connection with investigations of alleged or possible discriminatory practices, examination of Federal affirmative employment programs, or other functions of the Commission as authorized by law.

10. Federal Labor Relations Authority (FLRA): To FLRA in connection with the investigation and resolution of allegations of unfair labor practices, the resolution of exceptions to arbitration awards when a question of material fact is raised, matters before the Federal Service Impasses Panel, and the investigation of representation petitions and the conduct or supervision of representation elections.

11. Merit Systems Protection Board (MSPB): To MSPB in connection with appeals, special studies of the civil service and other merit systems, review of rules and regulations, investigation of alleged or possible prohibited personnel practices, and such other functions promulgated in 5 U.S.C. 1205 and 1206, or as authorized by law.

12. Health Care Providers, for Referral by VA: To: (a) a Federal agency or a health care provider when VA refers a patient for medical and other health services, or authorizes a patient to obtain such services and the information is needed by the Federal agency or health care provider to perform the services; or (b) a Federal agency or a health care provider under the provisions of 38 U.S.C. 513, 7409, 8111, or 8153, when treatment is rendered by VA under the terms of such contract or agreement or the issuance of an authorization, and the information is needed for purposes of medical treatment or follow-up, determination of eligibility for benefits, or recovery by VA of the costs of the treatment.

13. Health Care Providers, for Referral to VA: To a non-VA health care provider when that health care provider has referred the individual to VA for medical or other health services.

14. Covered Entities, for their Health Care Operations: To a covered entity for their health care operations, provided that the entity either has or had a relationship with the individual, and the disclosure is for the purpose of:

(a) Conducting quality assessment and improvement activities; patient safety activities as defined in 42 CFR 3.20; population-based activities relating to improving health or reducing health care costs, protocol development, case management, and care coordination; contacting of health care providers and patients with information about treatment alternatives; and related functions that do not include treatment;

(b) Reviewing the competence or qualifications of health care professionals; evaluating practitioner and provider performance, and health plan performance; conducting training programs for health care practitioners, trainees, and students; training of non-health care professionals; accreditation, certification, licensing, or credentialing activities; or

(c) Health care fraud and abuse detection or compliance.

15. Guardians, for Incompetent Veterans: To a legal guardian who is responsible for the care of the mentally incompetent individual, provided that information is about the incompetent individual and only disclosed to the extent necessary.

16. Agency-Appointed Representatives, Regarding Examinations: To the agency-appointed representative of an employee including all notices, determinations, decisions, or other written communications issued to the employee, in connection with an examination ordered by the agency under: (a) medical evaluation (formerly Fitness for Duty) examinations procedures, or (b) agency-filed disability retirement procedures.

17. Other Agencies, for Injury Reporting: To a requesting agency, organization, or individual including the home address and other information concerning those individuals who it is reasonably believed might have contracted an illness or been exposed to or suffered from a health hazard while employed in the Federal workforce.

18. Governmental Agencies, for VA Hiring, Security Clearance, Contract, License, Grant: To a Federal, State, local, or other governmental agency maintaining civil or criminal violation records, or other pertinent information, such as employment history, background investigations, or personal or educational background, to obtain information relevant to VA's hiring, transfer, or retention of an employee, issuance of a security clearance, letting of a contract, or issuance of a license, grant, or other benefit. The disclosure of the names and addresses of veterans and their dependents from VA records under this routine use must also comply with the provisions of 38 U.S.C. 5701.

19. Federal, State, Local Agencies, for Workplace Health and Safety Matters: To any Federal, State, or local government agency, in response to its request or at the initiation of the VA, information relevant and necessary to the lawful, statutory, administrative, or investigatory purpose as it relates to the conduct of job-related epidemiological research or the assurance of compliance with Federal, State, or local government laws on health and safety in the work environment.

20. State Licensing Board (SLB), for Licensing: To a Federal agency, a State or local government licensing board, the Federation of State Medical Boards, or a similar non-governmental entity that maintains records concerning individuals' employment histories or concerning the issuance, retention, or revocation of licenses, certifications, or registration necessary to practice an occupation, profession, or specialty, to inform such non-governmental entities about the health care practices of a terminated, resigned, or retired health care employee whose professional health care activity so significantly failed to conform to generally accepted standards of professional medical practice as to raise reasonable concern for the health and safety of patients in the private sector or from another Federal Agency. These records may also be disclosed as part of an ongoing computer matching program to accomplish these purposes.

21. Licensing Investigators or Supervisory Officials: To a State or local government entity which has the legal authority to make decisions concerning the issuance, retention or revocation of licenses, certifications or registrations required to practice a health care profession, when requested in writing by an investigator or supervisory official of the licensing entity for the purpose of making a decision concerning the issuance, retention or revocation of the license, certification or registration of a named health care professional.

22. National Practitioner Data Bank (NPDB), for Hiring, Privileging: To the NPDB at the time of hiring or clinical privileging/re-privileging of health care practitioners, and other times as deemed necessary by VA, in order for VA to obtain information relevant to a Department decision concerning the hiring, privileging/re-privileging, retention, or termination of the applicant or employee.

23. NPDB, SLB, for Medical Malpractice: To the NPDB or a SLB in the State in which a practitioner is licensed, in which the VA facility is located, or in which an act or omission occurred upon which a medical malpractice claim was based when VA reports information concerning: (a) any payment for the benefit of a physician, dentist, or other licensed health care practitioner that was made as the result of a settlement or judgment of a claim of medical malpractice, if an appropriate determination is made in accordance with Department policy that payment was related to substandard care, professional incompetence, or professional misconduct on the part of the individual; (b) a final decision that relates to possible incompetence or improper professional conduct that adversely affects the clinical privileges of a physician or dentist for a period longer than 30 days; or (c) the acceptance of the surrender of clinical privileges or any restriction of such privileges by a physician or dentist, either while under investigation by the health care entity relating to possible incompetence or improper professional conduct, or in return for not conducting such an investigation or proceeding. These records may also be disclosed as part of a computer matching program to accomplish these purposes.

24. Health and Wellness Program Evaluation: To third parties under contract with the agency to conduct evaluations of health and wellness programs.

POLICIES AND PRACTICES FOR STORAGE OF RECORDS:

These records are maintained in paper folders and electronic storage media in VA Information Technology systems.

POLICIES AND PRACTICES FOR RETRIEVAL OF RECORDS:

Records are retrieved by the employee or applicant name, the last four of their social security number, date of evaluation, or by any combination of these identifiers.

POLICIES AND PRACTICES FOR RETENTION AND DISPOSAL OF RECORDS:

Records in this system are retained and disposed of in accordance with the schedule approved by the Archivist of the United States, VHA Records Control Schedule 10-1, Item 6400.3.

ADMINISTRATIVE, TECHNICAL, AND PHYSICAL SAFEGUARDS:

1. On an annual basis, employees are required to sign a computer access agreement acknowledging their understanding of confidentiality requirements. In addition, all employees receive annual privacy awareness and information security training.

2. Access to electronic records is deactivated when no longer required for official duties. Recurring monitors are in place to ensure compliance with nationally and locally established security measures.

3. Strict control measures are enforced to ensure that access to and disclosure from all records are limited to VA and the employees whose official duties warrant access to those files.

RECORD ACCESS PROCEDURES:

Individuals seeking information on the existence and content of records in this system pertaining to them should contact the system manager in writing as indicated above or inquire in person at the VA health care facility where services were provided. A request for access to records must contain the requester's full name, address, telephone number, be signed by the requester, and describe the records sought in sufficient detail to enable VA personnel to locate them with a reasonable amount of effort.

CONTESTING RECORD PROCEDURES:

Individuals seeking to contest or amend records in this system pertaining to them should contact the system manager in writing as indicated above, or may visit the applicable VA facility. A request to contest or amend records must state clearly and concisely what record is being contested, the reasons for contesting it, and the proposed amendment to the record.

NOTIFICATION PROCEDURES:

Generalized notice is provided by the publication of this notice. For specific notice, see Record Access Procedure, above.

EXEMPTIONS PROMULGATED FOR THE SYSTEM:

Under title 5 U.S.C. 552a(k)(6), the head of any agency may exempt any system of records within the agency from certain provisions of the Privacy Act of 1974, if the system of records is testing or examination material used solely to determine police officers qualifications for appointment or fitness for duty in the Federal service, the disclosure of which would compromise the objectivity or fairness of the testing or examination process. The Law Enforcement Officer Evaluation records within this system of records are considered examination material used to determine if an individual has the qualifications to become a VA police officer. The function of the VA Police Service is to provide for the maintenance of law and order and the protection of persons and property on Department property, and having qualified individuals is critical to this function. This system of records has been created to collect testing and examination materials used to determine qualifications for VA police officers' fitness for service within VA.

Based upon the foregoing, the VA Secretary has exempted this system of records, to the extent that it encompasses information pertaining to testing or examination material used solely to determine qualifications for appointment or fitness for duty in the Federal service from the following provisions of the Privacy Act of 1974, as permitted by 5 U.S.C. 552a(k); 5 U.S.C. 552a(c)(3); 5 U.S.C. 552a(d)(1) through (d)(4); 5 U.S.C. 552a(e)(1); 5 U.S.C. 552a(e)(4)(G), (H) and (I); and 5 U.S.C. 552a(f).

Reasons for exemptions: The exemption of information and material in this system of records is necessary to assist in the accomplishment of the law enforcement functions of the VA Police Service by ensuring qualified individuals are determined fit for duty and selected as VA Police Officer. Sharing the testing and examinations materials and records with individuals seeking a position with the VA Police Service would compromise the examination process and undermine VA's ability to ensure qualified individuals are determine fit for service within the VA Police Service.

HISTORY:

None.

[FR Doc. 2024-16267 Filed 7-23-24; 8:45 a.m.]

BILLING CODE 8320-01-P